COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete a product and services from the Procurement List that was previously furnished by nonprofit agencies employing persons who are blind or have other severe disabilities.

DATES: Comments must be received on or before: October 14, 2018.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product and services are proposed for deletion from the Procurement List:

Product

NSN(s)—Product Name(s): 6545-00-853-6309—First Aid Kit, Eye Dressing

Mandatory Source of Supply: Suburban Adult Services, Inc., Elma, NY

Contracting Activity: Defense Logistics Agency Troop Support

Services

Service Type: Reproduction and Courier Service

Mandatory for: Naval Facilities Engineering Command, Chesapeake, Engineering Field Activity Chesapeake, 1314 Harwood Avenue SE, Washington, DC

Mandatory Source of Supply: Linden Resources, Inc., Arlington, VA

Contracting Activity: Dept. of the Navy, U.S. Fleet Forces Command

Service Type: Janitorial/Custodial Service

Mandatory for: Naval & Marine Corps Reserve Center (NMCRC), 1201 N 35th Avenue, Phoenix, AZ

Mandatory Source of Supply: The Centers for Habilitation/TCH, Tempe, AZ

Contracting Activity: Dept. of the Navy, NAVFAC Southwest

Service Type: Janitorial/Custodial Service

Mandatory for: Cherry Capital Airport System Support Center, General Aviation Terminal Bldg, 1220, Airport Access Road, 2nd Floor, Traverse City, MI

Mandatory Source of Supply: Grand Traverse Industries, Inc., Traverse City, MI

Contracting Activity: Federal Aviation Administration, FAA

Service Type: Grounds Maintenance Service

Mandatory for: Naval Air Warfare Center Weapons Division: Buildings 456 (N97) and 1438 (Main Post Area), White Sands Missile, NM

Mandatory Source of Supply: Tresco, Inc., Las Cruces, NM

Contracting Activity: Dept. of the Navy, U.S. Fleet Forces Command

Service Type: Food Service Attendant Service

Mandatory for: Schofield Barracks: Building 3004, Fort Shafter, HI

Mandatory Source of Supply: Opportunities and Resources, Inc., Wahiawa, HI

Contracting Activity: Dept. of the Army, 0413 AQ HQ

Michael R. Jurkowski,
Business Management Specialist, Business Operations.

[FR Doc. 2018-20033 Filed 9-13-18; 8:45 am]

BILLING CODE 6353-01-P